DEPARTMENT OF LABOR

Employment and Training Administration

[TA-W-62,463]

Franklin Pump Systems, Inc., Little Rock, AR; Notice of Termination of Investigation

Pursuant to section 221 of the Trade Act of 1974, as amended, an investigation was initiated on November 14, 2007 in response to a worker petition filed by a state agency representative on behalf of workers of Franklin Pump Systems, Inc., Little Rock, Arkansas.

The petitioner has requested that the petition be withdrawn. Consequently, the investigation has been terminated.

Signed at Washington, DC, this 27th day of November 2007.
Linda G. Poole,
Certifying Officer, Division of Trade Adjustment Assistance.

[FR Doc. E7-23370 Filed 11-30-07; 8:45 am]

BILLING CODE 4510-FN-P